DEPARTMENT OF TRANSPORTATION

National Highway Traffic Safety Administration

49 CFR Part 571

[Docket No. 2007-0048]

RIN 2127-AJ44, RIN 2127-AJ49

Federal Motor Vehicle Safety Standards, Child Restraint Systems; Anthropomorphic Test Devices

AGENCY: National Highway Traffic Safety Administration (NHTSA), Department of Transportation.

ACTION: Reopening of comment period.

SUMMARY: This document reopens the comment period on a supplemental notice of proposed rulemaking (SNPRM) to amend Federal Motor Vehicle Safety Standard (FMVSS) No. 213, “Child Restraint Systems.” Among other things, the SNPRM proposed to specify procedures the agency would use to position a Hybrid III 10-year-old child dummy and a Hybrid III 6-year-old child dummy in booster seats when conducting FMVSS No. 213 compliance tests. Comments on the SNPRM were due March 24, 2008. The Juvenile Products Manufacturers Association (JPMA) petitioned NHTSA to extend the comment period by a minimum of 60 days to appropriately respond with comments to the notice. We have granted the request to extend the comment period and are reopening the comment period for 45 days.

DATES: Comments must be received by May 12, 2008.

ADDRESSES: You may submit comments (identified by the Docket ID Number above) by any of the following methods:

• Federal eRulemaking Portal: Go to http://www.regulations.gov. Follow the online instructions for submitting comments.

• Mail: Docket Management Facility: U.S. Department of Transportation, 1200 New Jersey Avenue, SE., West Building Ground Floor, Room W12-140, Washington, DC 20590-0001.

• Hand Delivery or Courier: West Building Ground Floor, Room W12-140, 1200 New Jersey Avenue, SE., between 9 a.m. and 5 p.m. ET, Monday through Friday, except Federal holidays.

• Fax: 202-493-2251.

Instructions: For detailed instructions on submitting comments and additional information on the rulemaking process, see the Submission of Comments heading of the SNPRM published January 23, 2008. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78).

Docket: For access to the docket to read background documents or comments received, go to http://www.regulations.gov or the street address listed above. Follow the online instructions for accessing the dockets.

FOR FURTHER INFORMATION CONTACT: For technical issues, you may call Dr. Roger Saul, Office of Rulemaking (Telephone: 202-366-1740) (Fax: 202-493-2990). For legal issues, you may call Ms. Deirdre Fujita, Office of Chief Counsel (Telephone: 202-366-2992) (Fax: 202-366-3820). You may send mail to these officials at the National Highway Traffic Safety Administration, U.S. Department of Transportation, 1200 New Jersey Avenue, SE., West Building, Washington, DC 20590.

SUPPLEMENTARY INFORMATION: On January 23, 2008, NHTSA published an SNPRM that, among other things, proposed seating procedures for positioning the Hybrid III (HIII) 10-year-old child dummy and the HIII 6-year-old child dummy in booster seats when the dummies are used in FMVSS No. 213 compliance tests (73 FR 3901; Docket No. 2007-0048). The SNPRM supplemented a notice of proposed rulemaking (NPRM) published on August 31, 2005 that proposed to expand the applicability of FMVSS No. 213 to restraints recommended for children weighing up to 80 pounds, and require booster seats and other child restraints produced for older children to meet performance criteria when tested with the HIII 10-year-old child test dummy (70 FR 51720; DMS Docket No. 21245).¹ The SNPRM provided a 60-day comment period, which ended March 24, 2008.

¹ The agency also issued an NPRM that proposed to adopt specifications and performance requirements for the HIII 10-year-old child test dummy into 49 CFR Part 572 (notice of proposed rulemaking published July 13, 2005, 70 FR 40281; Docket No. NHTSA 2004-2005-21247).

On March 20, 2008, JPMA petitioned NHTSA to extend the comment period by a minimum of 60 days in order to provide more time to thoroughly evaluate the seating procedures proposed to position the HIII 10-year-old and 6-year-old child dummies in booster seats. JPMA noted that CRS manufacturers do not have immediate access to the HIII 10-year-old child dummy, and with additional time will be able to obtain the HIII 10-year-old child dummy and gain familiarity with the seating procedures. JPMA believes that extending the comment period by a minimum of 60 days will provide enough time to complete ongoing testing and evaluation of the new seating procedures, which will in turn lead to more meaningful responses based on real experience and test data.

Agency Decision

The agency is reopening the comment period for the January 23, 2008 SNPRM for 45 days in order to balance the interest of receiving meaningful responses and relevant test data with the interest of completing the rulemaking as soon as possible. The JPMA petition indicated that CRS manufacturers are already involved in activities to test and evaluate the seating procedure. Because these efforts have already begun, we believe a 45-day comment period should provide commenters sufficient time to obtain the HIII 10-year-old child dummy, evaluate the seating procedures for the two child dummies, and gain experience using the test dummies in sled testing of booster seats. It is further noted that the agency will consider comments submitted after the 45-day period to the extent possible.

(Authority: 49 U.S.C. 322, 30111, 30115, 30117 and 30166; delegation of authority at 49 CFR 1.50.)

Issued on March 21, 2008.
Roger A. Saul,
Director, Office of Crashworthiness Standards.

[FR Doc. 08-1072 Filed 3-21-08; 12:20 pm]

BILLING CODE 4910-59-P